DEPARTMENT OF ENERGY

Federal Energy Regulatory Commission

[Project No.: 6885-009]

Cinnamon Ranch; Notice of Application Tendered for Filing With the Commission and Soliciting Additional Study Requests

April 3, 2008.

Take notice that the following hydroelectric application has been filed with the Commission and is available for public inspection.

a. Type of Application: Subsequent Minor License.

b. Project No.: 6885-009.

c. Date filed: January 31, 2008.

d. Applicant: Richard Moss.

e. Name of Project: Cinnamon Ranch.

f. Location: On the Middle Creek and Birch Creek, in the Hammil Valley area of Mono County, near the Town of Benton, California. The project occupies 0.13 acre of Forest Service lands within Inyo National Forest and 7.4 acres of lands administered by the Bureau of Land Management (BLM).

g. Filed Pursuant to: Federal Power Act 16 U.S.C. 791 (a)-825(r).

h. Applicant Contact: Don Moss, 8381 Foppiano Way, Sacramento, CA 95829, 916-715-6023.

i. FERC Contact: Shana Murray, shana.murray@ferc.gov, 202-502-8333.

j. Cooperating agencies: We are asking Federal, state, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 31, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The Cinnamon Ranch Project consists of: (1) Two existing diversion flumes; (2) an existing 5,940-foot-long penstock; (3) a powerhouse containing a turbine and generator for a total installed capacity of 150 kilowatts; and (4) an existing 5,176-foot-long, 12 kV transmission line. The project is estimated to generate an average of 421,184 kilowatt-hours annually. The dam and existing project facilities are owned by the applicant. The licensee proposes no changes to facilities or operations.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the California State Historic Preservation Officer (SHPO), as required by § 106, National Historic Preservation Act, and the regulations of the Advisory Council on Historic Preservation, 36, CFR 800.4.

q. Procedural schedule: The application will be processed according to the following Hydro Licensing Schedule. Revisions to the schedule will be made as appropriate.

Issue Deficiency Letter—March 31, 2008.

Request Additional Information—March 31, 2008.

Issue Acceptance letter—June 30, 2008.

Issue Scoping Document 1 for comments—July 30, 2008.

Notice of application is ready for environmental analysis—September 30, 2008.

Notice of the availability of the EA—March 30, 2009.

Kimberly D. Bose,
Secretary.

[FR Doc. E8-7605 Filed 4-9-08; 8:45 am]

BILLING CODE 6717-01-P